DEPARTMENT OF TRANSPORTATION

Maritime Administration

[Docket No. DOT-MARAD-2019-0096]

Request for Comments of a Previously Approved Information Collection

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on March 1, 2019.

DATES: Comments must be submitted on or before July 8, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: Michael Pucci, Office of Maritime Programs, Maritime Administration, Department of Transportation, 1200 New Jersey Avenue SE, W26-494, Washington, DC 20590, 202-366-5167.

SUPPLEMENTARY INFORMATION: Title: Requirements for Establishing U.S. Citizenship—46 CFR 355.

OMB Control Number: 2133-0012.

Type of Request: Renewal of a Previously Approved Information Collection.

Background: In accordance with 46 CFR part 355, shipowners, charterers, equity owners, ship managers, etc., seeking benefits provided by statute are required to provide on an annual basis, an Affidavit of U.S. Citizenship to the Maritime Administration (MARAD) for analysis. The Affidavits of U.S. Citizenship filed with MARAD will be reviewed to determine if the Applicants are eligible to participate in the programs offered by the agency.

Respondents: Shipowners, charterers, equity owners, ship managers.

Affected Public: Business or other for profit.

Total Estimated Number of Responses: 500.

Frequency of Collection: Annually.

Estimated time per Respondent: 5 hours.

Total Estimated Number of Annual Burden Hours: 2,500.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93) * * *.

Dated: June 3, 2019.
By Order of the Maritime Administrator.
T. Mitchell Hudson, Jr.,
Secretary, Maritime Administration.

[FR Doc. 2019-11904 Filed 6-5-19; 8:45 am]

BILLING CODE 4910-81-P